DEPARTMENT OF COMMERCE

National Oceanic and Atmospheric Administration

[ID. 051903C]

Fisheries Off West Coast States and in the Western Pacific;Pacific Coast Groundfish Fishery; Application for an Exempted Fishing Permit

AGENCY: National Marine Fisheries Service (NMFS), National Oceanic and Atmospheric Administration (NOAA), Commerce.

ACTION: Notice of receipt of an application for an exempted fishing permit; request for comments.

SUMMARY: NMFS announces receipt of an application for an exempted fishing permit (EFP) from the California Department of Fish and Game (CDFG). This EFP application applies to vessels with valid California State delivery permits, fishing for flatfish with an experimental small footrope trawl net in Federal waters off the State of California. If awarded, this EFP would allow qualifying vessels to catch and retain groundfish in closed rockfish conservation areas (RCAs) and to retain groundfish species in excess of cumulative trip limits, providing the vessels carry state-sponsored samplers. Samplers would monitor vessel activity and collect data that are otherwise not available shoreside. This EFP proposal is intended to promote the objectives of the Pacific Coast Groundfish Fishery Management Plan (FMP) by providing data that can be used to enhance management of the groundfish fishery.

DATES: Comments must be received by June 17, 2003.

ADDRESSES: Copies of the EFP application are available from Becky Renko, Northwest Region, NMFS, 7600 Sand Point Way N.E., Bldg. 1, Seattle, WA 98115-0070.

FOR FURTHER INFORMATION CONTACT: Becky Renko at (206) 526-6140 or Carrie Nordeen at (206) 526-6144.

SUPPLEMENTARY INFORMATION: This action is authorized by the FMP and implementing regulations at 50 CFR 600.745 and 50 CFR 660.350.

If awarded, this EFP would allow qualifying vessels to catch and retain groundfish in the Trawl RCA and to retain groundfish species in excess of cumulative trip limits, providing the vessels carry state-sponsored samplers and use gear that meets the requirements specified by CDFG. Samplers will monitor fishing activities and collect data that are otherwise not available shoreside.

The purpose of this exempted fishing activity would be to collect data on the rate at which unintended species, particularly overfished shelf rockfish (bocaccio and canary rockfish), are taken by commercial fishers targeting flatfish in Federal waters off the State of California using an experimental trawl net. Fishers will be required to use the experimental small footrope trawl net and will be restricted to areas outside of 3 miles and in less than 100 fathoms (183 meters) of water. If the EFP is issued, approximately 22 vessels would be eligible to participate, with no more than 6 vessels participating at one time. The fishing period for the EFP would be the from July 1 through October 31, 2003.

Flatfish species are abundant and commercially important off California, however, the harvest of these species is constrained by efforts to rebuild overfished species, particularly bocaccio and canary rockfish. In 2001 and 2002, the Oregon Department of Fish and Wildlife (ODFG) chartered commercial fishing vessels to develop and test new trawl net designs. Testing was conducted to compare new trawl net configurations with those that are typically used in the groundfish fishery. During the initial testing, a gear configuration similar to the design that is proposed for use under this EFP had significant reductions in the catch of overfished rockfish species relative to the catch of flatfish species. This EFP is similar to an EFP that was issued to ODFG earlier this year. (68 FR, 19518, April 21, 2003) Because this gear design meets the requirements of small footrope bottom trawl gear, as defined by regulations at 50 CFR part 660, it is currently legal to use for fishing and it could become an effective way for fishery participants to reduce rockfish bycatch in the flatfish fishery. Vessels participating under this EFP must submit a net plan and use only gear that is consistent with the specified requirements for EFP fishing.

Data collected during this project are expected to benefit the management of the groundfish fishery by: (1) providing catch rates by fishing location of species incidentally caught with the experimental net, (2) allowing for the collection of biological data that is otherwise not available from landed catch, and (3) providing data that can be used to evaluate the full retention of rockfish as a management approach. The information gathered through this EFP may lead to future rulemaking.

The flatfish limits for limited entry trawl gear south of 40° 10′ N lat., as currently published in the Federal Register, will be available to EFP participants who may fish for these limits within the Trawl RCA as well as in areas not within the Trawl RCA. If the limits are lowered later in the year through an inseason adjustment, the current limits will still be allowed under the EFP. The total amount (discard plus retained) of flatfish allowed to be taken under this EFP is not expected to exceed 381 metric tons (mt) and the total amount (discard plus retained) of petrale sole is not expected to exceed 54 mt. The EFP fishing will be constrained by the following EFP limits for overfished species: bocaccio rockfish 0.5 mt, cowcod 0.5 mt, yelloweye rockfish 0.5 mt, canary rockfish 0.5 mt, widow rockfish 0.5 mt, darkblotched rockfish 0.5 mt, and Pacific ocean perch 0.5 mt. If the total catch during the period of time in which the EFP is conducted of any one of these overfished species reaches the EFP limit, the EFP will be terminated for the remainder of the 2003 fishing year. All harvests are expected to be within set asides for 2003 EFP harvests and, therefore, no optimum yield of overfished species is expected to be exceeded.

In accordance with regulations, NMFS determined that the proposal warranted further consideration and, therefore, consulted with the Council. The Council considered the EFP application during its April 2003 meeting and recommended that NMFS issue the EFP. Contingent on review of public comments, NMFS intends to approve the EFP fishing. A copy of the application is available for review from NMFS (see ADDRESSES).

Authority: 16 U.S.C. 1801 et seq.

Dated: May 27, 2003.
Bruce C. Morehead,
Acting Director, Office of Sustainable Fisheries, National Marine Fisheries Service.

[FR Doc. 03-13727 Filed 5-30-03; 8:45 am]

BILLING CODE 3510-22-S